DEPARTMENT OF HOUSING AND URBAN DEVELOPMENT

[Docket No. FR-6418-N-04]

Announcement of Funding Awards

AGENCY: Office of Chief Financial Officer, HUD.

ACTION: Notice.

SUMMARY: In accordance with section 102(a)(4)(C) of the Department of Housing and Urban Development Reform Act of 1989, this announcement notifies the public of funding decisions made by the Department in competitions for funding under the Notices of Funding Opportunity (NOFOs) and Notices for the following program (s): Procedural Guidance for Fiscal Year 2023 HOPWA Permanent Supportive Housing Renewal and Replacement Grant Application, FY 2022 Family Unification Program (FUP), FY 2023 Housing Mobility-Related Services, FY 2023 HUD VASH PIH Notice 2023-22, FY 2023 HUD VASH PIH Notice 2023-09, FY 2023 Choice Neighborhoods Planning Grants, FY 2023 Emergencies and Non-Presidentially Declared Disaster Fund PIH Notice 2012-48(HA), FY 2023 HOPE VI Main Street Grant Program, FY22 and FY23 Distressed Cities Technical Assistance (DCTA) Program, FY22 HUDRD—Hispanic Serving Institutions (HSI) Research Center of Excellence, FY2022 Authority to Accept Unsolicited Proposals for Research Partnerships, FY2023 HUDRD-Closing the Homeownership Gap and Preserving Homeownership During Economic Decline, FY23 HUDRD Grants for University-Nonprofit Partnerships Supporting Community-Engaged Research Designed to Address Homelessness Program, FY2023 and FY2024 Radon Testing and Mitigation Demonstration for Public Housing and Healthy Homes Production Grant Program.

FOR FURTHER INFORMATION CONTACT: Christine Brown, Acting Director, Grants Management and Oversight, Office of the Chief Financial Officer, Office of the Chief Financial Officer (Systems), Grants Management and Oversight at AskGMO@hud.gov or the contact person listed in each appendix.

SUPPLEMENTARY INFORMATION: HUD posted Procedural Guidance for Fiscal Year 2023 HOPWA Permanent Supportive Housing Renewal and Replacement Grant Application Program on grants.gov April 12. 2023, (CPD-23-03). The competition closed on June 13, 2023. HUD rated and selected for funding based on selection criteria contained in the notice. This competition awarded $30,289,401 to 27 recipients to provide funds to eligible expiring HOPWA Permanent Supportive Housing grantees to provide permanent supportive housing (PSH) as the primary grant activity to HOPWA-eligible clients. For the purposes of the Notice, “permanent housing” means housing in which the eligible person has a continuous legal right to remain in the unit established by a lease or legally binding occupancy agreement.

HUD posted FY 2022 Family Unification Program (FUP) on grants.gov April 25, 2023, (FR-6600-N-84). The competition closed on May 25, 2023. HUD rated and selected for funding based on selection criteria contained in the NOFO. This competition awarded $9,968,902 to 13 recipients to make Housing Choice Voucher (HCV) assistance available to Public Housing Agencies (PHAs) in partnership with Public Child Welfare Agencies (PCWAs) for eligible families and youth.

HUD posted FY 2023 FY 2023 Housing Mobility-Related Services Program on grants.gov June 1, 2023, (FR-6700-N-87). The competition closed on September 13, 2023. HUD rated and selected for funding based on selection criteria contained in the NOFO. This competition awarded $24,510,137 to 7 recipients to expand housing choices for Housing Choice Voucher (HCV) families with children by increasing access to opportunity neighborhoods. The awardees will administer housing mobility programs which will increase the number of HCV families with children residing in lower-poverty neighborhoods.

HUD posted FY 2023 HUD VASH Program on grants.gov August 14, 2023, (PIH Notice 2023-22). The Registration of Interest application window closed on September 15, 2023. HUD selected PHAs for funding based on selection criteria contained in the notice. This process awarded $14,554,810 to 67 recipients to assist homeless veterans with housing assistance. The PHAs will provide a HUD-VASH voucher to an eligible veteran referred by a partnering VA Medical Center.

HUD posted FY 2023 HUD VASH Program on grants.gov April 10, 2023, (PIH Notice 2023-09). The Registration of Interest application window closed on June 5, 2023. HUD selected PHAs for funding based on selection criteria contained in the notice. This process awarded $16,126,622 to 71 recipients to assist homeless veterans with housing assistance. The PHAs will provide a HUD-VASH voucher to an eligible veteran referred by a partnering VA Medical Center.

HUD posted FY 2023 Choice Neighborhoods Planning Grants NOFO on grants.gov April 4, 2023, (FR-6700-N-38). The competition closed on June 6, 2023. HUD rated and selected for funding based on selection criteria contained in the NOFO. This competition awarded $7,000,000 to 14 recipients focused on severely distressed public housing and HUD-assisted housing. Planning Grants support communities in developing a comprehensive neighborhood revitalization strategy, or Transformation Plan. The Transformation Plan will become the guiding document for the revitalization of the public and/or assisted housing units while simultaneously directing the transformation of the surrounding neighborhood and positive outcomes for families.

HUD posted FY 2023 Emergencies and Non-Presidentially Declared Disaster Fund PIH Notice 2012-48(HA) on grants.gov November 28, 2012, (PIH 2012-48(HA)) on an as-needed basis. HUD rated and selected for funding based on selection criteria contained in the Notice. This competition awarded $7,039,081 to 8 recipients from July 1, 2023, to August 31, 2023, to assist public housing agencies with capital needs arising from emergencies and non-presidentially declared natural disasters. The funds are to be used to correct emergency conditions, which constitute an immediate threat to the health and safety of public housing residents.

HUD posted FY 2023 HOPE VI Main Street Grant Program on grants.gov June 14, 2023, (FR-6700-N-03). The competition closed on December 11, 2023. HUD rated and selected for funding based on selection criteria contained in the NOFO. This competition awarded $2,000,000 to 3 recipients to communities smaller than 50,000 in population to assist in the renovation of a historic, traditional central business district, or “Main Street” area by replacing unused, obsolete, commercial space in buildings with affordable housing units.

HUD posted FY22 and FY23 Distressed Cities Technical Assistance (DCTA) Program on grants.gov March 20, 2023, (FR-6700-N-54). The competition closed on May 19, 2023. HUD rated and selected for funding based on selection criteria contained in the NOFO. This competition awarded $6,950,000 to 5recipients to provide technical assistance to units of general local government and their non-profit partners serving communities experiencing economic hardship.

HUD posted HUDRD—Hispanic Serving Institutions (HSI) Research Center of Excellence Program on grants.gov January 17, 2023, (FR-6600-N-29G). The competition closed on June 1, 2023. HUD rated and selected for funding based on selection criteria contained in the NOFO. This competition awarded $10,500,000 to 4 recipients to conduct research projects on multiple topics of strategic interest to the Department of Housing and Urban Development.

HUD posted FY2022 Authority to Accept Unsolicited Proposals for Research Partnerships Program on grants.gov September 7, 2022, (FR-6600-N-USP). The notice closed on June 30, 2023, 2023. HUD rated and selected for funding based on selection criteria contained in the NOTICE. This Notice awarded $1,600,000 to 3 recipients to allow greater flexibility in addressing evidence gaps concerning strategic policy questions and to better utilize external expertise in evaluating effectiveness of programs affecting residents of urban, suburban, rural, and tribal areas as well as local innovations in the delivery of these programs.

HUD posted FY2023 HUDRD-Closing the Homeownership Gap and Preserving Homeownership During Economic Decline Program on grants.gov May 25, 2023 (FR-6700-N-29I). The competition closed on July 24, 2023, 2023. HUD rated and selected for funding based on selection criteria contained in the NOFO. This competition awarded $998,283 to 3 recipients to fund rigorous evaluations of (a) the factors that contribute to the gaps in homeownership rates among different demographic groups, and the effect of public policies and other initiatives (including private or philanthropic efforts) on addressing these gaps, and (b) how homeownership can be preserved during economic decline, including the effects of related public policies and other initiatives (including private or philanthropic efforts on achieving preservation goals).

HUD posted FY23 HUDRD Grants for University-Nonprofit Partnerships Supporting Community-Engaged Research Designed to Address Homelessness Program on grants.gov May 4, 2023 (FR-6700-N-29K). The competition closed on July 13, 2023. HUD rated and selected for funding based on selection criteria contained in the NOFO. This competition awarded $1,358,208 to 2 recipients to address homelessness in communities, while elevating the perspectives and insights of people with lived experience.

HUD posted FY2023 and FY2024 Radon Testing and Mitigation Demonstration for Public Housing Program on grants.gov July 7, 2023, (FR-6700-N-80). The competition closed on August 21, 2023. HUD rated and selected for funding based on selection criteria contained in the NOFO. This competition awarded $3,047,932 to 6 recipients to provide funds to public housing agencies (PHAs) to conduct testing and as-needed mitigation of radon in the units that they manage and where applicable, to support the development of a plan for future testing and mitigation.

HUD posted FY 2023 Healthy Homes Production Grant Program on grants.gov September 15, 2023, (FR-6700-N-44). The competition closed on November 7, 2023. HUD rated and selected for funding based on selection criteria contained in the NOFO. This competition awarded $39,080,629 to 22 recipients to address multiple housing-related hazards in a comprehensive fashion.

In accordance with section 102(a)(4)(C) of the Department of Housing and Urban Development Reform Act of 1989 (103 Stat. 1987, 42 U.S.C. 3545(a)(4)(C)), the Department is publishing the awardees and the amounts of the awards in Appendix A thru O of this document.

Christine Brown,
Acting Director, Grants Management and Oversight, Office of the Chief Financial Officer.

Appendix A

Procedural Guidance for Fiscal Year 2023 HOPWA Permanent Supportive Housing Renewal and Replacement Grant Application (CPD-23-03)

Contact: Vanessa Larkin, vanessa.t.larkin@hud.gov.

Organization name | Street address or P.O. Box | City | State | Zip | Award amount
Action, Inc | 180 Main Street | Gloucester | MA | 01930-6002 | $1,300,585.00
AIDS Alabama, Inc | 3529 7th Avenue South | Birmingham | AL | 35222-3210 | 987,317.00
AIDS Foundation of Chicago | 200 W Monroe Street Suite 1150 | Chicago | IL | 60606-5036 | 1,483,450.00
AIDS Foundation of Chicago | 201 W Monroe Street Suite 1150 | Chicago | IL | 60606-5036 | 1,422,571.00
Alameda County | 224 W Winton Ave Room 108 | Hayward | CA | 94544 | 1,561,072.00
Alaska Housing Finance Corp | P.O. Box 101020 4300 Boniface Parkway | Anchorage | AK | 99510-1020 | 924,965.00
City of Nashua | 229 Main Street | Nashua | NH | 03060-2938 | 1,532,092.00
City of Savannah, Daniel Flagg | P.O. Box 1027 | Savannah | GA | 31402 | 261,995.00
City of Savannah, Project House | P.O. Box 1027 | Savannah | GA | 31402 | 692,757.00
Clare Housing | 929 Central Avenue NE | Minneapolis | MN | 55413-2404 | 994,072.00
Clare Housing | 929 Central Avenue NE | Minneapolis | MN | 55413-2404 | 431,806.00
Cochise County | 1415 Melody Lane Building G | Bisbee | AZ | 85603 | 643,013.00
Del Norte Neighborhood Dev | 3275 W 14th Avenue Suite #202 | Denver | CO | 80204 | 627,772.00
Grace House | 2219 N Lamar Street | Jackson | MS | 39202-1404 | 1,266,240.00
Harbor Homes | 77 Northeastern Blvd | Nashua | NH | 03060-2938 | 512,470.00
Health Services Center | P.O. Box 1347 | Anniston | AL | 36202 | 915,881.00
Kingsport Housing and Redevelopment | 906 E Sevier Avenue | Kingsport | TN | 37660-5233 | 1,133,529.00
Lexington-Fayette Urban County | 200 East Main Street | Lexington | KY | 40504 | 1,506,791.00
Maui AIDS Foundation | 1935 Main Street Suite 100 | Wailuku | HI | 96793-1784 | 1,520,103.00
Meeting the Needs of Our Community | 4A Kronprindsens Gade P.O. Box 306816 | St. Thomas | VI | 00803-6816 | 1,510,082.00
Oregon Health Authority | 800 NE Oregon St Suite 105 | Portland | OR | 97232 | 1,453,052.00
Pima County | 2797 East Ajo Way | Tucson | AZ | 85713 | 1,425,283.00
State of Montana | 1400 Carter Dr | Helena | MT | 59601 | 1,512,514.00
University of Illinois, College of Medicine | 809 S Marshfield Ave | Chicago | IL | 60612-4305 | 1,311,404.00
Salvation Army | 2445 Prior Avenue | Roseville | MN | 55113-2714 | 473,084.00
Vermont Housing | 58 East State Street | Montpelier | VT | 05602-3403 | 1,497,540.00
Vivent | 648 N Plankinton Ave. Suite 200 | Milwaukee | WI | 53203 | 1,387,961.00
Total |  |  |  |  | 30,289,401.00

Appendix B

FY 2022 Family Unification Program (FUP) FR-6600-N-84

Contact: Celia Carpentier (202) 402-7093 and Ryan Jones (202) 402-2677.

Organization name | Street address or P.O. Box | City | State | Zip code | Award amount
Santa Clara County Housing Authority | 505 West Julian Street | San Jose | CA | 95110 | $1,175,590.00
Sonoma County Housing Authority | 1440 Guerneville Road | Santa Rosa | CA | 95403 | 1,182,229.00
Housing Authority of the County of San Diego | 3989 Ruffin Road | San Diego | CA | 92123 | 1,131,976.00
Housing Authority of the City and County of Denver | 1035 Osage Street | Denver | CO | 80204 | 862,761.00
Hialeah Housing Authority | 75 East 6th Street | Hialeah | FL | 33010 | 566,650.00
Chicago Housing Authority | 60 E Van Buren St | Chicago | IL | 60605 | 778,477.00
Jefferson Parish Housing Services and Development District | P.O. Box 9 | Gretna | LA | 70054 | 417,064.00
Mississippi Regional Housing Authority VIII | P.O. Box 2347 | Gulfport | MS | 39505 | 376,940.00
Home Forward | 135 SW Ash Street | Portland | OR | 97204 | 788,081.00
Rhode Island Housing and Mortgage Finance Corporation | 44 Washington Street | Providence | RI | 02903 | 354,369.00
Housing Authority of the City of Austin | P.O. Box 41119 | Austin | TX | 78704 | 772,020.00
Housing Authority of the County of Salt Lake dba Housing Connect | 3595 S Main Street | Salt Lake City | UT | 84115 | 628,548.00
King County Housing Authority | 600 Andover Park West | Seattle | WA | 98188 | 934,197.00
Total |  |  |  |  | 9,968,902.00

Appendix C

FY 2023 Housing Mobility-Related Services (FR-6700-N-84)

Contact: Alison Bell (202) 402-5673.

Organization name | Street address or P.O. Box | City | State | Zip code | Award amount and total
Housing Authority of the Birmingham District | 1826 3rd Avenue S | Birmingham | AL | 35233 | $2,119,900
Boston Housing Authority | 52 Chauncy Street | Boston | MA | 02111 | 5,000,000
The Housing Authority of the City of Dallas, TX | 3939 N Hampton Road | Dallas | TX | 75212 | 5,000,000
Houston Housing Authority | 2640 Fountain View Drive | Houston | TX | 77057 | 5,000,000
Seattle Housing Authority | 190 Queen Anne Avenue North | Seattle | WA | 98109 | 1,075,200
Milwaukee County Housing Authority | 600 W Walnut Street | Milwaukee | WI | 53212 | 1,815,037
Connecticut Department of Housing | 505 Hudson Street | Hartford | CT | 06106 | 4,500,000
Total |  |  |  |  | 24,510,137

Appendix D

FY 2023 HUD VASH PIH Notice 2023-22

Contact: Courtney Herring, 202-402-5000.

Organization name | Street address | City | State | Zip code | Award amount
Housing Authority of the Birmingham District | 1826 3rd Ave S | Birmingham | AL | 35233 | $180,378.00
Huntsville Housing Authority | 200 Washington St NE | Huntsville | AL | 35801 | 200,323.00
Bessemer Housing Authority | 1515 Fairfax Ave | Bessemer | AL | 35020 | 198,979.00
City of Tucson | 310 N Commerce Park Loop | Tucson | AZ | 85745 | 602,505.00
Tempe Housing Authority | 3500 S Rural Rd | Tempe | AZ | 85282 | 226,306.00
Housing Authority of Cochise County | 1415 Melody Ln Bldg. A | Bisbee | AZ | 85603 | 66,533.00
Housing Authority of the County of Contra Costa | 3133 Estudillo St | Martinez | CA | 94553 | 892,320.00
Housing Authority of the County of San Mateo | 264 Harbor Blvd | Belmont | CA | 94002 | 693,742.00
Housing Authority County of San Joaquin | 2575 Grand Canal Blvd | Stockton | CA | 95207 | 80,008.00
Stanislaus Regional Housing Authority | 1701 Robertson Rd | Modesto | CA | 95351 | 158,023.00
San Diego Housing Commission | 1122 Broadway Ste 300 | San Diego | CA | 92101 | 894,210.00
Housing Authority of the City of San Luis Obispo | 487 Leff St | San Luis Obispo | CA | 93401 | 223,346.00
City of Fairfield Housing Authority | 823 Jefferson St Ste B | Fairfield | CA | 94533 | 264,948.00
Alameda County Housing Authority | 22941 Atherton St | Hayward | CA | 94541 | 403,437.00
Housing Authority of the County of Santa Cruz | 2160 41st Ave | Capitola | CA | 95010 | 573,559.00
Housing Authority of the City of Redding | 777 Cypress Ave | Redding | CA | 96001 | 56,496.00
Housing Authority of the County of San Diego | 3989 Ruffin Rd | San Diego | CA | 92123 | 91,360.00
Roseville Housing Authority | 316 Vernon St Ste 150 | Roseville | CA | 95678 | 165,182.00
Housing Catalyst | 1715 W Mountain Ave | Fort Collins | CO | 80521 | 272,829.00
Metro West Housing Solutions | 575 Union Blvd Ste 100 | Lakewood | CO | 80228 | 293,659.00
Housing Authority of the City of Bridgeport | 150 Highland Ave | Bridgeport | CT | 6604 | 125,118.00
West Haven Housing dba Savin Rock Communities | 15 Glade St | West Haven | CT | 6516 | 108,738.00
Connecticut Department of Housing | 505 Hudson St | Hartford | CT | 6106 | 266,357.00
Lakeland Housing Authority | 430 Hartsell Ave | Lakeland | FL | 33815 | 43,235.00
Hernando County Housing Authority | 621 W Jefferson St | Brooksville | FL | 34601 | 49,218.00
DuPage Housing Authority | 711 E Roosevelt Rd | Wheaton | IL | 60187 | 331,517.00
The City of Evansville Housing Authority | 500 SE 10th St | Evansville | IN | 47713 | 143,255.00
Boston Housing Authority | 52 Chauncy St | Boston | MA | 2111 | 253,129.00
Cambridge Housing Authority | 362 Green St | Cambridge | MA | 2139 | 91,099.00
Brockton Housing Authority | 45 Goddard Rd | Brockton | MA | 2301 | 48,682.00
Somerville Housing Authority | 30 Memorial Rd | Somerville | MA | 2145 | 195,653.00
Brookline Housing Authority | 90 Longwood Ave | Brookline | MA | 2446 | 118,639.00
Dedham Housing Authority | 163 Dedham Blvd | Dedham | MA | 2026 | 183,711.00
Watertown Housing Authority | 55 Waverley Ave | Watertown | MA | 2472 | 198,280.00
Executive Office of Housing and Livable Communities | 100 Cambridge St Ste 300 | Boston | MA | 2114 | 68,808.00
Housing Opportunities Commission of Montgomery County, MD | 10400 Detrick Ave | Kensington | MD | 20895 | 317,182.00
Grand Rapids Housing Commission | 1420 Fuller Ave SE | Grand Rapids | MI | 49507 | 115,974.00
Kent County Housing Commission | 121 S Martin L King Blvd | Grand Rapids | MI | 49503 | 131,583.00
Housing Authority of the City of Lumberton | 407 N Sycamore St | Lumberton | NC | 28358 | 21,922.00
The Housing Authority of the City of Rocky Mount | 1065 Pinehurst Dr | Rocky Mount | NC | 27801 | 62,998.00
Sanford Housing Authority | 1000 Carthage St | Sanford | NC | 27330 | 64,938.00
Long Branch Housing Authority City of Long Branch | 2 Hope Lane | Long Branch | NJ | 7740 | 63,350.00
New Jersey Department of Community Affairs | 101 S Broad St | Trenton | NJ | 8608 | 54,266.00
New Jersey Department of Community Affairs | 101 S Broad St | Trenton | NJ | 8608 | 54,266.00
Nevada Rural Housing Authority | 3695 Desatoya Dr | Carson City | NV | 89701 | 403,272.00
Akron Metropolitan Housing Authority | 100 W Cedar St | Akron | OH | 44307 | 105,118.00
Stark Metropolitan Housing Authority | 400 Tuscarawas St E | Canton | OH | 44702 | 160,834.00
Housing Authority of Washington County | 161 NW Adams Ave | Hillsboro | OR | 97124 | 301,998.00
Philadelphia Housing Authority | 2013 Ridge Ave | Philadelphia | PA | 19121 | 746,196.00
Harrisburg Housing Authority | 351 Chestnut St | Harrisburg | PA | 17101 | 270,043.00
The Housing Authority of the County of Butler | 114 Woody Dr | Butler | PA | 16001 | 60,455.00
Mercer County Housing Authority | 80 Jefferson Ave | Sharon | PA | 16146 | 26,816.00
Housing Authority of the City of York | 31 S Broad St | York | PA | 17403 | 81,320.00
Housing Authority of Chester County | 30 W Barnard St | West Chester | PA | 19382 | 402,514.00
North Providence Housing Authority | 945 Charles St | North Providence | RI | 2904 | 248,877.00
Rhode Island Housing and Mortgage Finance Corporation | 44 Washington St | Providence | RI | 2903 | 337,554.00
SC State Housing Finance & Development Authority | 300 Outlet Pointe Blvd Ste C | Columbia | SC | 29210 | 42,231.00
Housing Authority of the City of Dallas, Texas (DHA) | 3939 N Hampton Rd | Dallas | TX | 75212 | 177,199.00
San Marcos Housing Authority | 1201 Thorpe Ln | San Marcos | TX | 78666 | 73,650.00
Tatum Housing Authority | 200 Forest Acres Cir | Tatum | TX | 75691 | 31,708.00
Housing Authority of the City of New Braunfels | 300 Laurel Ln | New Braunfels | TX | 78130 | 45,393.00
City of Marshall Housing Authority | 1401 Poplar St | Marshall | TX | 75670 | 33,730.00
Lynchburg Redevelopment and Housing Authority | 1948 Thomson Dr | Lynchburg | VA | 24501 | 72,233.00
Staunton Redevelopment and Housing Authority | 900 Elizabeth Miller Gdns | Staunton | VA | 24401 | 36,303.00
Seattle Housing Authority | 190 Queen Anne Ave N | Seattle | WA | 98109 | 285,099.00
Spokane Housing Authority | 25 W Nora Ave | Spokane | WA | 99205 | 934,728.00
Wisconsin Housing and Economic Development Authority | 201 W Washington Ave Ste 700 | Madison | WI | 53703 | 27,478.00
Total |  |  |  |  | 14,554,810.00

Appendix E

FY 2023 HUD VASH PIH Notice 2023-09

Contact: Courtney Herring, 202-402-5000.

Organization name | Street address or P.O. Box | City | Zip code | Award amount
Alaska Housing Finance Corporation | 4300 Boniface Parkway | Anchorage | 99504 | $155,376.00
Housing Authority of the City of Dothan | 602 S Lena Street | Dothan | 36301 | 141,216.00
Housing Authority of the County Contra Costa | 3133 Estudillo Street | Martinez | 94553 | 2,107,886.00
Housing Authority of the County of San Bernardino | 715 E Brier Dr | San Bernardino | 92408 | 753,434.00
Housing Authority of the City of Needles | 908 Sycamore Drive | Needles | 92363 | 211,572.00
San Diego Housing Commission | 1122 Broadway Suite 300 | San Diego | 92101 | 422,061.00
Orange County Housing Authority | 1501 E St. Andrew Place, First Floor | Santa Ana | 92705 | 168,348.00
Housing Authority of the City of Redondo Beach | 1922 Artesia Blvd | Redondo Beach | 90278 | 186,386.00
City of Anaheim Housing Authority | 201 South Anaheim Boulevard | Anaheim | 92805 | 155,461.00
Delta Housing Authority | 501 14TH Street | Delta | 81416 | 30,239.00
Boulder County Housing Authority | 3460 N Broadway | Boulder | 80304 | 44,282.00
Boulder County Housing Authority | 3460 N Broadway | Boulder | 80304 | 38,362.00
Montrose County Housing Authority | 222 Hap Court | Olathe | 81425 | 32,422.00
Colorado Division of Housing | 1313 Sherman Street | Denver | 80203 | 271,779.00
New Castle County Housing Authority | 77 Read's Way | New Castle | 19720 | 680,918.00
Sarasota Housing Authority | 269 S Osprey Ave | Sarasota | 34236 | 1,262,250.00
Delray Beach Housing Authority | 82 NW 5th Avenue | Delray Beach | 33444 | 68,836.00
Citrus County Housing Services | 2804 W Marc Knighton Ct | Lecanto | 34461 | 29,824.00
County of Hawaii | 1990 Kino'ole St., Suite 102 | Hilo | 96720 | 95,116.00
County of Maui | 2065 Main Street | Wailuku | 96793 | 157,760.00
Hawaii Public Housing Authority | 1002 North School Street | Honolulu | 96817 | 111,455.00
City of Sioux City Housing Authority | 405 6th St.—#107 | Sioux City | 51101 | 24,593.00
Housing Authority of the City of Bloomington, IL | 104 E Wood Street | Bloomington | 61701 | 32,621.00
Wichita Housing Authority | City Hall | Wichita | 67202 | 292,630.00
Boston Housing Authority | 52 Chauncy Street | Boston | 02111 | 252,857.00
Braintree Housing Authority | 25 Roosevelt Street | Braintree | 02184 | 204,757.00
Housing Authority of Prince Georges County | 9200 Basil Court | Largo | 20774 | 130,530.00
Michigan State Housing Development Authority | 735 E Michigan | Lansing | 48912 | 110,372.00
St. Louis Housing Authority | 3520 Page Boulevard | Saint Louis | 63106 | 53,202.00
Housing Authority of St. Louis County | 8865 Natural Bridge Road | Saint Louis | 63121 | 62,674.00
Springfield Housing Authority | 421 W Madison Street | Springfield | 65806 | 110,130.00
Housing Authority of the City of Joplin, MO | 1834 W 24TH Street | Joplin | 64804 | 94,726.00
Franklin County Public Housing Agency | 2 Merchant Dr | Hillsboro | 63050 | 24,060.00
Missoula Housing Authority | 1235 34th Street | Missoula | 59801 | 158,911.00
Housing Authority of the City of Goldsboro | 700 N Jefferson Ave | Goldsboro | 27530 | 39,424.00
WNC Source | 220 King Creek Blvd | Hendersonville | 28792 | 32,585.00
Western Piedmont Council of Governments | 1880 2nd Avenue NW | Hickory | 28601 | 53,335.00
New Hampshire Housing Finance Agency | 32 Constitution Drive | Bedford | 03110 | 250,935.00
Hoboken Housing Authority | 400 Harrison Street | Hoboken | 07030 | 234,764.00
Gloucester County Housing Authority | 100 POP Moylan Boulevard | Deptford | 08096 | 75,107.00
City of Reno Housing Authority | 1525 E 9th Street | Reno | 89512 | 963,720.00
Columbus Metropolitan Housing Authority | 880 East 11th Ave | Columbus | 43211 | 385,068.00
Clermont Metropolitan Housing Authority | 65 S Market Street | Batavia | 45103 | 46,922.00
Housing Authority of the City of Lawton | 609 SW F Avenue | Lawton | 73501 | 44,003.00
Housing Authority of Clackamas County | 13930 South Gain Street | Oregon City | 97045 | 268,962.00
Linn-Benton Housing Authority | 1250 SE Queen Ave | Albany | 97322 | 175,005.00
Housing Authority of the City of York | 31 S Broad Street | York | 17403 | 54,222.00
Housing Authority of the County of Berks | 1803 Butter Lane | Reading | 19606 | 106,859.00
Housing Authority of the County of Cumberland | 114 N Hanover Street | Carlisle | 17013 | 84,303.00
Lancaster County Housing Authority | 28 Penn Square | Lancaster | 17603 | 146,935.00
The Greenville Housing Authority | 122 Edinburgh Court | Greenville | 29607 | 184,752.00
SC State Housing Authority | 300-C Outlet Pointe Boulevard | Columbia | 29210 | 392,472.00
Crossville Housing Authority | 67 Irwin Avenue | Crossville | 38555 | 91,544.00
Tennessee Housing Development Agency | 502 Deaderick Street | Nashville | 37243 | 160,070.00
Housing Authority of the City of Brownsville | 2606 Boca Chica Boulevard | Brownsville | 78521 | 28,031.00
McAllen Housing Authority | 1200 N 25th St | McAllen | 78501 | 27,251.00
Big Spring Housing Authority | 201 NE 7th Street | Big Spring | 79720 | 69,276.00
Texas Department of Housing & Community Affairs | 221 E 11th Street | Austin | 78701 | 29,408.00
St. George Housing Authority | 975 N 1725 W | St. George | 84770 | 31,889.00
Roanoke Redevelopment & Housing Authority | 2624 Salem Turnpike NW | Roanoke | 24017 | 155,891.00
Harrisonburg Redevelopment & Housing Authority | 286 Kelley Street | Harrisburg | 22802 | 70,978.00
Fairfax County Redevelopment & Hsg Authority | 3700 Pender Drive | Fairfax | 22030 | 266,011.00
Prince William County Office of HCD | 15941 Donald Curtis Drive, Suite 112 | Woodbridge | 22191 | 362,745.00
Housing Authority of the City of Bremerton | 600 Park Avenue | Bremerton | 98337 | 189,013.00
HA City of Tacoma | 902 S L Street | Tacoma | 98405 | 520,986.00
HA Of Grays Harbor County | 602 East First Street | Aberdeen | 98520 | 26,620.00
HA City of Pasco and Franklin County | 2505 West Lewis Street | Pasco | 99301 | 153,314.00
Housing Authority City of Bellingham | 208 Unity Street | Bellingham | 98225 | 37,643.00
Kitsap County Consolidated Housing Auth | 2244 NW Bucklin Hill Road | Silverdale | 98383 | 69,113.00
Housing Authority of Snohomish County | 12711 4TH Avenue West | Everett | 98204 | 344,547.00
HA Of Pierce County | 603 So Polk St | Tacoma | 98444 | 480,708.00
HA City of Spokane | 25 W Nora Ave | Spokane | 99205 | 795,165.00
Total |  |  |  | 16,126,622.00

Appendix F

FY 2023 Choice Neighborhoods Planning Grants (FR-6700-N-38)

Contact: Luci Blackburn (202) 402-4190.

Organization name | Street address or P.O. Box | City | State | Zip | Award amount
Housing Authority of the City of Hagerstown | 35 W Baltimore St | Hagerstown | MD | 21740 | $500,000.00
Stark Metropolitan Housing Authority | 400 E Tuscarawas Street | Canton | OH | 44702 | 500,000.00
Housing Authority of the City of Bridgeport | 150 Highland Avenue | Bridgeport | CT | 6604 | 500,000.00
City of Albuquerque | P.O. Box 1293 | Albuquerque | NM | 87103 | 500,000.00
City of Bethlehem | 10 E Church St | Bethlehem | PA | 18018 | 500,000.00
Gainesville Housing Authority | 1900 SE 4th Street | Gainesville | FL | 32641 | 500,000.00
Housing Authority of the City of Daytona Beach | 211 N Ridgewood Ave | Daytona Beach | FL | 32114 | 500,000.00
Lift Orlando | 710 South Tampa Ave | Orlando | FL | 32805 | 500,000.00
Oklahoma City Housing Authority | 1700 NE 4th Street | Oklahoma City | OK | 73117 | 500,000.00
Peoria Housing Authority | 100 S Richard Pryor Place | Peoria | IL | 61605 | 500,000.00
Philadelphia Housing Authority | 2013 Ridge Avenue | Philadelphia | PA | 19121 | 500,000.00
Selma Housing Authority | 444 Washington St | Selma | AL | 36703 | 500,000.00
Housing Authority of Kansas City, Missouri | 3822 Summit | Kansas City | MO | 64111 | 500,000.00
Housing Authority of New Haven | 360 Orange Street, New Haven, CT | New Haven | CT | 06511 | 500,000.00
Total |  |  |  |  | 7,000,000.00

Appendix G

FY 2023 Emergencies and Non-Presidentially Declare Disaster Fund PIH Notice 2012-48(HA)

Contact: Luci Blackburn (202) 402-4190.

Organization name | Street address or P.O. Box | City | State | Zip code | Award amount
Guttenberg Housing Authority | 6900 Broadway Avenue | Guttenberg | NJ | 07093 | $730,000.00
St. Joseph Housing Commission | 601 Port Street | St. Joseph | MI | 49085 | 1,242,880.00
Yale Housing Authority | 601 Watson Drive | Yale | OK | 74085 | 739,085.00
Dahlonega Housing Authority | 90 Thompson Circle | Dahlonega | GA | 30533 | 518,400.00
Village of Great Neck Housing Authority | 700 Middle Neck Road | Great Neck | NY | 11023 | 225,900.00
Lowell Housing Authority | 350 Moody Street | Lowell | MA | 01854 | 1,970,773.00
Leachville Housing Authority | 410 E 5th Street | Leachville | AR | 72438 | 812,889.00
Jefferson Housing Authority | 1040 Myrtle Avenue | Jefferson City | MO | 65102 | 799,154.00
Total |  |  |  |  | 7,039,081.00

Appendix H

FY 2023 HOPE VI Main Street Grant Program (FR-6700-N-03)

Contact: John Holtgreive (202) 402-6645.

Organization name | Street address or P.O. Box | City | State | Zip code | Award and amount of total
City of Caney | 100 W 4th Ave | Caney | KS | 67333 | $500,000.00
City of Emporia Kansas | 522 Mechanic Street | Emporia | KS | 66801 | 500,000.00
Municipality of Manati | #10 Calle Quinones | Manati | PR | 00674 | 1,000,000.00
Total |  |  |  |  | 2,000,000.00

Appendix I

FY22 and FY23 Distressed Cities Technical Assistance (DCTA) Program (FR-6700-N-54)

Contact: Carol Gilliam, 202-402-4354.

Organization name | Street address or P.O. Box | City | State | Zip code | Award and amount of total
BCT Partners, LLC | 105 Lock Street, Suite 311 | Newark | NJ | 07103 | $2,000,000
Capital Access, Inc | 220 Locust Street, Suite 16C | Philadelphia | PA | 19106 | 1,000,000
Enterprise Community Partners, Inc | 70 Corporate Center, 11000 Broken Land Parkway | Columbia | MD | 21044 | 1,950,000
Local Initiatives Support Corporation | 28 Liberty Street, 34th Floor | New York City | NY | 10005 | 1,000,000
Midwest Evaluation and Research, LLC | 1005 Constitution Street, Suite 500 | Emporia | KS | 66801 | 1,000,000
Total |  |  |  |  | 6,950,000

Appendix J

HUDRD—Hispanic Serving Institutions (HSI) Research Center of Excellence Program (FR-6600-N-29G)

Contact: Carol Gilliam (202) 402-4354.

Organization name | Street address or P.O. Box | City | State | Zip code | Amount
Texas Tech University | Research Services, 349 Admin Bldg | Lubbock | TX | 79409 | $3,207,839
Arizona State University | Office Research Sponsored Programs Administration, P.O. Box 876011 | Tempe | AZ | 85287 | 3,000,000.00
University of Texas at Austin | 3925 West Braker Lane, Building 156, Suite 3340 | Austin | TX | 78759 | 2,459,527
Texas Agricultural and Mechanical University | 400 Harvey Mitchell Parkway, South, Suite 300 | College Station | TX | 77845 | 1,832,634
Total |  |  |  |  | 10,500,000

Appendix K

FY2022 Authority To Accept Unsolicited Proposals for Research Partnerships (FR-6600-N-USP)

Contact: Carol Gilliam (202) 402-4354.

Organization name | Street address or P.O. Box | City | State | Zip code | Amount
New York University, Furman Center | 665 Broadway, Suite 801 | New York | NY | 10012-233 | $650,000
The Regents of the University of California U.C. San Diego | 9500 Gilmore Drive | La Jolla | CA | 92093-9934 | 350,000
City of NOME | P.O. Box 281 | Nome | AK | 99762-0281 | 600,000
Total |  |  |  |  | 1,600,000

Appendix L

FY2023 HUDRD—Closing the Homeownership Gap and Preserving Homeownership During Economic Decline (FR-6700-N-29I)

Contact: Carol Gilliam (202) 402-4354.

Organization name | Street address or P.O. Box | City | State | Zip code | Amount
New America Foundation | 740 15th Street NW, Suite 900 | Washington | DC | 20005-1031 | $251,925
The Regents of the University of Michigan | 3003 S State Street | Ann Arbor | MI | 48109-1274 | 330,000.00
Abt Associates | 6130 Executive Blvd | Rockville | MD | 20852-4907 | 416,358
Total |  |  |  |  | 998,283

Appendix M

FY23 HUDRD Grants for University-Nonprofit Partnerships Supporting Community—Engaged Research Designed To Address Homelessness (FR-6700-N-29K)

Contact: Carol Gilliam (202) 402-4354.

Organization name | Street address or P.O. Box | City | State | Zip code | Amount
The Arizona Board of Regents for and on behalf of Northern Arizona University | P.O. Beaver Box 4130, 525 S Beaver Street, Bldg. 20, 4th Floor | Flagstaff | AZ | 86011-4130 | $726,306
New York University (NYU) Grossman School of Medicine | One Park Avenue | New York | NY | 10016-5802 | 631,902
Total |  |  |  |  | 1,358,208

Appendix N

FY2023 and FY2024 Radon Testing and Mitigation Demonstration for Public Housing (FR-6700-N-80)

Contact: Rhona Julien Sc.D. (202) 402-6842.

Organization name | Street address or P.O. Box | City | State | Zip code | Award amount and total
Warren County Housing Authority | 200 E Harlem Ave | Monmouth | IL | 61462-1273 | $600,000.00
Housing Authority of Prince George's County | 9200 Basil Court | Largo | MD | 20774-5358 | 450,678.00
The Housing Authority of Kansas City Missouri | 3822 Summit | Kansas City | MO | 64111-4652 | 508,274.00
Blair Housing Authority | 758 S 16th Street | Blair | NE | 68008-2387 | 442,858.00
Columbiana Metropolitan Housing Authority | 325 Moore Street | East Liverpool | OH | 43920-2572 | 600,000.00
Maryville Housing Authority | 311 Atlantic Ave | Maryville | TN | 37801-2166 | 446,122.00
Total |  |  |  |  | 3,047,932.00

Appendix O

Healthy Homes Production Grant Program (FR-6700-N-44)

Contact: Sacsheen Scott (202) 402-4370.

Organization name | Street address or P.O. Box | City | State | Zip code | Award amount and total
Fairbanks Neighborhood Housing Services | 1427 Gillam Way | Fairbanks | AK | 99701 | $2,000,000.00
Rural Alaska Community Action Program, Inc., (Rural CAP) | 731 E 8th Ave | Anchorage | AK | 99501 | 1,997,325.00
Chilkat Indian Village (Klukwan) | HC60 Box 2207 | Klukwan | AK | 99827 | 1,000,000.00
City of Long Beach | 2525 Grand Avenue | Long Beach | CA | 90815 | 1,706,641.00
Greater Miami Service Corps | 810 NW 28th Street | Miami | FL | 33127 | 1,605,735.00
Troup County—Habitat for Humanity | 333 Main St | LaGrange | GA | 30240 | 1,987,070.00
City of Atlanta | 55 Trinity Avenue SW | Atlanta | GA | 30303 | 1,753,802.00
City of Waterloo | 620 Mulberry Street | Waterloo | IA | 50703 | 1,999,991.00
Young Adult Development in Action, Inc | 800 S Preston Street | Louisville | KY | 40203 | 1,999,969.00
Frontier Housing, Inc | 5445 Flemingsburg Rd | Morehead | KY | 40351 | 1,408,469.00
Mult-County Community Service Agency, INC | 2906 St. Paul Street P.O. Box 905 | Lauderdale | MS | 39301 | 2,000,000.00
Northern Cheyenne Tribal Housing Authority | P.O. Box 327 | Lame Deer | MT | 59043 | 1,833,082.00
Rebuilding Together Southern Nevada | 611 South Ninth Street | Las Vegas | NV | 89101 | 1,250,000.00
Genesee County | 3837 West Main St. Rd | Batavia | NY | 14020 | 1,182,681.00
County of Madison, NY | 138 N Court Street | Wampsville | NY | 13163 | 2,000,000.00
Albany Community Development Agency | 200 Henry Johnson Blvd | Albany | NY | 12210 | 1,890,000.00
Community Housing Solutions | 12114 Larchmere Blvd | Cleveland | OH | 44120 | 2,000,000.00
Neighborhood Housing Services of Toledo, Inc | 704 Second Street | Toledo | OH | 43605 | 1,994,245.00
S.A.F.E.-Housing INC | 434 Peepytown Road | East Berlin | PA | 17316 | 2,000,000.00
Shelby County | 1075 Mullins Station Road | Memphis | TN | 38134 | 1,500,000.00
Weber-Morgan Health Dept | 477 23rd Street | Ogden City | UT | 84401 | 2,000,000.00
Tulalip Tribes of Washington | 6406 Marine Drive | Tulalip | WA | 98271 | 1,971,619.00
Total |  |  |  |  | 39,080,629.00

[FR Doc. 2024-20966 Filed 9-13-24; 8:45 am]

BILLING CODE 4210-67-P